DEPARTMENT OF COMMERCE

International Trade Administration

[A-533-847]

1-Hydroxyethylidene-1, 1-Diphosphonic Acid From India: Final Results of Antidumping Duty Administrative Review and Revocation of Order (in Part); 2011-2012

AGENCY: Import Administration, International Trade Administration, Department of Commerce.

SUMMARY: On May 2, 2013, the Department of Commerce (the Department) published the preliminary results of the third administrative review of the antidumping duty order on 1-hydroxyethylidene-1, 1-diphosphonic acid (HEDP) from India.¹ The review covers one manufacturer and exporter of the subject merchandise to the United States: Aquapharm Chemicals Pvt., Ltd. (Aquapharm). The period of review (POR) is April 1, 2011, through March 31, 2012. We did not receive comments from any interested parties. Therefore, the final results do not differ from the preliminary results. We continue to find that sales of subject merchandise have not been made at prices below normal value (NV) by Aquapharm. Accordingly, we have determined to revoke the antidumping duty order, in part, with respect to HEDP produced and exported by Aquapharm.

¹ See 1-Hydroxyethylidene-1, 1-Diphosphonic Acid from India: Preliminary Results of Antidumping Duty Administrative Review; 2011-2012; Intent to Revoke Order (in Part), 78 FR 25699 (May 2, 2012) (Preliminary Results).

DATES: Effective Date: July 3, 2013.

FOR FURTHER INFORMATION CONTACT: Brandon Custard or David Goldberger, AD/CVD Operations, Office 2, Import Administration, International Trade Administration, U.S. Department of Commerce, 14th Street and Constitution Avenue NW., Washington, DC, 20230; telephone: (202) 482-1823 or (202) 482-4136, respectively.

SUPPLEMENTARY INFORMATION:

Background

On May 2, 2013, the Department published in the Federal Register the Preliminary Results, in which we preliminarily determined that it was appropriate to revoke the order with respect to Aquapharm because it had satisfied all of the procedural and substantive requirements for revocation.²

² See “Decision Memorandum for Preliminary Results of Antidumping Duty Administrative Review: 1-Hydroxyethylidene-1, 1-Diphosphonic Acid (HEDP) from India,” dated April 25, 2013 (Preliminary Decision Memorandum), at 2-3.

We invited parties to comment on the Preliminary Results.³ No comments were submitted.

³ See Preliminary Results, 78 FR at 25700.

Scope of the Order

The merchandise covered by the order includes all grades of aqueous, acidic (non-neutralized) concentrations of 1-hydroxyethylidene-1, 1-diphosphonic acid.⁴ The product is currently classified in the Harmonized Tariff Schedule of the United States (HTSUS) at item numbers 2931.90.9043 and 2811.19.6090.⁵ Although the HTSUS numbers are provided for convenience and customs purposes, the full written scope description, as published in the antidumping order ⁶ and described in the Preliminary Decision Memorandum, remains dispositive.

⁴ C2H8O7P2 or C(CH3)(OH)(PO3H2)2.

⁵ We have revised the HTSUS item numbers for the merchandise subject to this order to reflect the current HTSUS schedule available on the International Trade Commission's Web site at http://www.usitc.gov/tata/hts/bychapter/index.htm.

⁶ 1-Hydroxyethylidene-1, 1-Diphosphonic Acid from India and the People's Republic of China: Antidumping Duty Orders, 74 FR 19197 (April 28, 2009).

Determination To Revoke Order, In Part

The Department may revoke, in whole or in part, an antidumping duty order upon completion of a review under section 751 of the Tariff Act of 1930, as amended (the Act). While Congress has not specified the procedures that the Department must follow in revoking an order, the Department has developed a procedure for revocation that is described in 19 CFR 351.222. For a more detailed written description of the requirements for revoking an antidumping duty order in whole or in part, see Preliminary Decision Memorandum.

We have determined that the request from Aquapharm meets all of the criteria for revocation under 19 CFR 351.222.⁷ In the Preliminary Results, we determined that Aquapharm satisfied the procedural and substantive requirements for revocation.⁸ As no parties have taken issue with the Preliminary Results, we continue to find that Aquapharm's request satisfies the requirements for revocation.

⁷ The Department recently modified the section of its regulations concerning the revocation of antidumping and countervailing duty orders in whole or in part, but that modification does not apply to this administrative review. See Modification to Regulation Concerning the Revocation of Antidumping and Countervailing Duty Orders, 77 FR 29875 (May 21, 2012). Reference to 19 CFR 351.222(b) refers to the Department's regulations prior to the modification.

⁸ Preliminary Decision Memorandum at 2-3.

Effective Date of Revocation

This revocation applies to all entries of subject merchandise that are produced and exported by Aquapharm, and are entered, or withdrawn from warehouse, for consumption on or after April 1, 2012. The Department will order the suspension of liquidation lifted for all such entries and will instruct CBP to release any cash deposits or bonds. The Department will further instruct CBP to refund with interest any cash deposits on entries made on or after April 1, 2012.

Final Results of the Review

As a result of our review, we determined that the following weighted-average margin percentage applies for the period April 1, 2011, through March 31, 2012:

Manufacturer/Exporter | Margin (percent)
Aquapharm Chemicals Pvt., Ltd | 0.00

Assessment Rates

The Department shall determine, and U.S. Customs and Border Protection (CBP) shall assess, antidumping duties on all appropriate entries of subject merchandise in accordance with the final results of this review pursuant to 19 CFR 351.212.⁹ The Department intends to issue assessment instructions to CBP 15 days after the date of publication of the final results of this review. Because we have calculated a zero margin for Aquapharm in the final results of this review, we will instruct CBP to liquidate the appropriate entries without regard to antidumping duties.

⁹ In these final results, the Department applied the assessment rate calculation method adopted in Antidumping Proceedings: Calculation of the Weighted-Average Dumping Margin and Assessment Rate in Certain Antidumping Proceedings: Final Modification, 77 FR 8101 (February 14, 2012).

The Department clarified its “automatic assessment” regulation on May 6, 2003. See Antidumping and Countervailing Duty Proceedings: Assessment of Antidumping Duties, 68 FR 23954 (May 6, 2003) (Assessment Policy Notice). This clarification applies to entries of subject merchandise during the POR produced by Aquapharm for which it did not know that the merchandise it sold to an intermediary (e.g., a reseller, trading company, or exporter) was destined for the United States. In such instances, we will instruct CBP to liquidate unreviewed entries at the all-others rate effective during the POR if there is no rate for the intermediary involved in the transaction.

Cash Deposit Requirements

The following cash deposit requirements will be effective for all shipments of the subject merchandise entered, or withdrawn from warehouse, for consumption on or after the publication date of the final results of this administrative review, as provided by section 751(a)(2)(C) of the Act: (1) No cash deposit will apply to Aquapharm, consistent with our revocation of the order with respect to Aquapharm, effective April 1, 2012, as discussed above; (2) for previously reviewed or investigated companies not participating in this review, the cash deposit rate will continue to be the company-specific rate published for the most recent period; (3) if the exporter is not a firm covered in this review or the original less-than-fair-value (LTFV) investigation, but the manufacturer is, the cash deposit rate will be the rate established for the most recent period for the manufacturer of the merchandise; and (4) the cash deposit rate for all other manufacturers or exporters will continue to be 3.10 percent, the all-others rate established in the LTFV investigation. See 1-Hydroxyethylidene-1, 1-Diphosphonic Acid from India: Notice of Final Determination of Sales at Less Than Fair Value, 74 FR 10543, 10544 (March 11, 2009). These requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This administrative review and notice are published in accordance with sections 751(a)(1) and 777(i)(1) of the Act.

Dated: June 24, 2013.
Paul Piquado,
Assistant Secretary for Import Administration.

[FR Doc. 2013-15892 Filed 7-2-13; 8:45 am]

BILLING CODE 3510-DS-P